DEPARTMENT OF JUSTICE

Antitrust Division

Notice Pursuant to the National Cooperative Research and Production Act of 1993—Optical Internetworking Forum (“OIF”)

Notice is hereby given that, on March 2, 2000, pursuant to Section 6(a) of the National Cooperative Research and Production Act of 1993, 15 U.S.C. 4301 et seq. (“the Act”), Optical Internetworking Forum (“OIF”) has filed written notifications simultaneously with the Attorney General and the Federal Trade Commission disclosing changes in its membership status. The notifications were filed for the purpose of extending the Act's provisions limiting the recovery of antitrust plaintiffs to actual damages under specified circumstances. Specifically, Blaze Network Products, Dublin, CA; Centre Comunicacions Avancades Banda, Catalunya, Spain; Computer & Communications Research Labs, Hsin Chu, TAIWAN; Huawei Technologies, Shenzhen, PEOPLES REPUBLIC OF CHINA; Information & Communications University, Daejon, SOUTH KOREA; Integrated Device Technology, Santa Clara, CA; Japan Radio Co., Yokosuka, JAPAN; LAN-hopper Systems, Norcross, GA; Maker Communications, Framingham, MA; Microsoft Corporation, Redmond, WA; NASA Ames Research Center, Mountain View, CA; PhotonEx, Bedford, MA; Redfern Broadband Networks, Sydney, AUSTRALIA; Royal KPN, The Hague, NETHERLANDS; Samsung, Suwon, SOUTH KOREA; Siara Systems, Mountain View, CA; Telecom Italia, Rome, ITALY; Telefonica de Espana, Madrid, SPAIN; Telia AB, Farsta, SWEDEN; Terago Communications, Plymouth, MN; TTC, Germantown, MD; VTT Information Technology, Espoo, FINLAND; Wind, Rome, ITALY have been added as auditing members. Altera, San Jose, CA; ANDO Corporation, San Jose, CA; Conexant, Boulder, CA; Cypress Semiconductor, San Jose, CA: ETRI, Taejeon, SOUTH KOREA; Extreme Networks, Santa Clara, CA; General Dynamics, Whippany, NJ; Gore & Associates, Austin, TX; IBM Corporation, Waltham, MA; Infineon Technologies, Cupertino, CA: JDS Uniphase, Nepean, Ontario, CANADA; Korea Telecom, Seoul, SOUTH KOREA; LANCAST, Nashua, NH; Mitsubishi Electric Corporation, Kanagawa, JAPAN; Network Associates, Santa Clara, CA; Photonetics, Peabody, MA; SITA Equant, Valbonne, FRANCE; Toshiba Corporation, Tokyo, JAPAN; Transwitch Corporation, Shelton, CT; Vitesse Semiconductor, Framingham, MA have been added as principal members. Accelerant Networks, Beaverton, OR; Algety Telecom, Lannion, FRANCE; Alidian Networks, Los Altos, CA; Appian Communications, Foxborough, MA; Axsun Technologies, Billercia, MA; China Advanced Info-Optical Network, Beijing, PEOPLES REPUBLIC OF CHINA; Chip2Chip, San Jose, CA; Chromisys, Sunnyvale, CA; Cielo Communications, Broomfield, CO; Coretek, Wilmington, MA; Coriolis Networks, Foxborough, MA; Corvia Networks, Santa Clara, CA; Crescent Networks, Chelmsford, MA; CyOptics, Los Angeles, CA; Equipe Communications, Westford, MA; Extreme Packet Devices, Kanata, Ontario, CANADA; Focused Research, Madison, WI; Harris & Jeffries, Dedham, MA; Internet Research Institute, Tokoyo, JAPAN; IronBridge Networks, Lexington, MA; LightLogic, Santa Clara, CA; Luminous Networks, San Jose, CA; Multilink Technology Corporation, Santa Monica, CA; Nanovation, Miami, FL; Network Elements, Beaverton, OR; New Access Communications, San Jose, CA; NewPort Communications, Irvine, CA; Novanet, Raanana, ISRAEL; Optobahn, Torrance, CA; PentaCom, Herzliyya, ISRAEL; PicoLight, Boulder, CO; Quantum Bridge, North Andover, MA; Sirocco Systems, Wallingford, CT; Solidum Systems Corporation, Scotts Valley, CA; SpectraSwitch, Santa Rosa, CA; TELE-WORX, Garland, TX; Trellis Photonics, Carmiel, ISRAEL; US Conec, Hickory, NC; Vivace Networks, San Jose, CA; Xros, Sunnyvale, CA; Xtera Communications, Sunnyvale, CA; YAFO, Columbia, MD have been added as small principal members. Allied Signal, Morristown, NJ has changed from principal member to auditing member. Chiaro Networks, Jerusalem, ISRAEL; Dynarc, Kista, SWEDEN; and Lunx, Sunnyvale, CA have changed from auditing members to small principal members. ECI Telecom, Petah-Tikua, ISRAEL; and Fujikura, Sakura-Shi, JAPAN have changed from auditing members to principal members. Virtual Photonics, Berlin, GERMANY has changed from small principal member to auditing member. Bellcore, Red Bank, NJ has changed its name to Telcordia Technologies; Hewlett-Packard, San Jose, CA has changed its name to Agilent Technologies, Osicom Technologies, San Diego, CA has changed its name to Sorrento Networks; Ryan Hankin Kent, San Francisco, CA has changed its name to RHK. Wandel & Goltermann, Eningen, GERMANY has changed it name to Wavetek Wandel Goltermann. Argon Networks, Littleton, MA has merged into Siemens, Munich, GERMANY; Ascend Communications, Westford, MA has merged into Lucent Technologies, Holmdel, NJ; Cerent Corporation, Petaluma, CA has merged into Cisco Systems, San Jose, CA; Cimaron Communications, Andover, MA has merged into AMCC, San Diego, CA; Fore Systems, Warrendale, PA has merged into Marconi Communications, Genova, ITALY, JDS Fitel, Nepean, Ontario, CANADA has merged into JDS Uniphase, Nepean, Ontario, CANADA; Uniphase Corporation, Bloomfield, CT has merged into JDS Uniphase, Nepean, Ontario, CANADA; Lightera Networks, Cupertino, CA and Monterey Networks, Richardson, TX have merged into Cisco Systems, San Jose, CA; Nexabit, Marlborough, MA has merged into Lucent Technologies, Holmdel, NJ; and Reltec Corporation has merged into Marconi Communications, Genova, ITALY. Also, AMP, Inc., Harrisburg, PA; Applied Fiber Optics (AFO), Fremont, CA; Bandwidth Unlimited, Hayward, CA; British Telecommunications, London, UNITED KINGDOM; Giga, Thousand Oaks, CA; Indiana University, Bloomington, IN; Los Alamos National Labs, Los Alamos, NM; Mayan Networks, Sunnyvale, CA; Molecular OptoElectronics Corp., Watervliet, NY; MRV Communications, Chatsworth, CA; New Focus, Santa Clara, CA; Northchurch Communications Inc., Andover, MA; Open Networks Engineering, Ann Arbor, MI; Pipelinks, Inc., Santa Clara, CA; SDL, San Jose, CA; Stratum One Communications, Santa Clara, CA; Symmetricom, San Jose, CA; Terabit Networks, Los Altos, CA; Uniant, Santa Clara, CA; University of Kansas, Lawrence, KS; and USC-Information Sciences Inst., Arlington, VA have been dropped as parties to this venture.

No other changes have been made in either the membership or planned activity of the group research project. Membership in this group research project remains open, and Optical Internetworking Forum intends to file additional written notification disclosing all changes in membership.

On October 5, 1998, Optical Internetworking Forum filed its original notification pursuant to Section 6(a) of the Act. The Department of Justice published a notice in the Federal Register pursuant to Section 6(b) of the Act on January 29, 1999 (64 FR 4709).

The last notification was filed with the Department on February 25, 1999. A notice was published in the Federal Register pursuant to Section 6(b) of the Act on May 26, 1999 (64 FR 28520).

Constance K. Robinson,
Director of Operations, Antitrust Division.

[FR Doc. 00-20890 Filed 8-16-00; 8:45 am]

BILLING CODE 4410-11-M